DEPARTMENT OF HEALTH AND HUMAN SERVICES

Centers for Disease Control and Prevention

[60-Day-11-11FU]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Daniel Holcomb, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

“Evaluating the Effects of the `Reality Check' Serial Drama on the HIV-related Attitudes and Behavioral Intentions of African American Youth”—NEW—National Center for HIV, Viral Hepatitis, STD, and TB Prevention (NCHHSTP), Centers for Disease Control and Prevention (CDC).

Background and Brief Description

The purpose of this study is to evaluate the effects of an already-created serial drama intervention, “Reality Check,” on African American youth in the Atlanta, Georgia area. Young African Americans are very disproportionately affected by HIV/AIDS and other sexually transmitted infections (STIs). Social, demographic, and historic factors contributing to these high disease rates include poverty, poor access to preventive medical services, and homophobia, which causes some men who have sex with men (MSM) to be secretive about these activities and to be reluctant to be tested for HIV. Unfortunately, many persons infected with HIV are unaware of their infection and may be transmitting the virus, especially during the highly infectious acute infection stage. However, persons who become aware of their HIV infections reduce their risky behavior dramatically.

The study will evaluate the effectiveness of the innovative, theory-based HIV risk reduction serial drama intervention, “Reality Check,” among African Americans aged 13 to 21 years who attend clubs for youth in the Atlanta Metropolitan Statistical Area (MSA). The hypothesis to be tested is that “Reality Check” is effective in increasing intention for HIV testing, condom use, and abstinence, and in increasing tolerance for persons regardless of HIV status or sexual orientation, as compared with the comparison group. The study will use a cluster randomized trial design, with a wait-list comparison group and pre- and post-intervention assessments. Youth clubs serving minority and disadvantaged youth in the Atlanta MSA will be matched into pairs and randomly assigned to intervention and comparison conditions. The study sample will include at least 500 participants evenly divided between the two conditions. Eligible youth at all participating clubs will be invited to complete the pre-intervention questionnaire. The eligible youth at the intervention clubs will be shown the serial drama, which consists of 27, 3-minute episodes, in its entirety immediately after completing the questionnaire. Four weeks later eligible youth at all participating clubs will be invited to complete the post-intervention questionnaire. Eligible youth at clubs in the comparison group will be shown the serial drama immediately after the post-intervention assessment has been completed. If “Reality Check” is shown to be successful, it can be delivered cost-effectively and with substantial reach via various mechanisms, such as public buses with video monitors, on video kiosks, and on Web sites. There is no cost to respondents other than their time.

Estimated Annualized Burden Hours
Type of respondent | Form name | Number of respondents | Number responses per respondent | Average burden per respondent (in hours) | Total annual burden (in hours)
Directors of youth clubs | Screening and Enlistment Form | 30 | 1 | 10/60 | 5
Participating youth | Survey Questionnaire | 500 | 1 | 15/60 | 125
Participating youth | Follow-up Questionnaire | 425 | 1 | 15/60 | 106
Total |  |  |  |  | 236

Dated: May 20, 2011.
Daniel Holcomb,
Reports Clearance Officer, Centers for Disease Control and Prevention.

[FR Doc. 2011-13333 Filed 5-27-11; 8:45 am]

BILLING CODE 4163-18-P